DEPARTMENT OF ENERGY

Energy Employees Occupational Illness Compensation Program Act of 2000; Revision to List of Covered Facilities

AGENCY: Department of Energy.

ACTION: Notice of revision of listing of covered facilities.

SUMMARY: The Department of Energy (“Department” or “DOE”) periodically publishes or revises a list of facilities covered under the Energy Employees Occupational Illness Compensation Program Act of 2000, as amended (“EEOICPA” or “Act”). This notice revises the previous lists because (1) Some designated atomic weapons employers (AWE) should not have been so designated; (2) one listed facility's name has changed; and (3) one university was incorrectly designated as a covered facility rather than the laboratory operated by the university. Previous lists or revisions were published on June 28, 2007, November 30, 2005, August 23, 2004, July 21, 2003, December 27, 2002, June 11, 2001, and January 17, 2001.

FOR FURTHER INFORMATION CONTACT: Patricia R. Worthington, PhD, Director, Office of Health and Safety (HS-10), (301) 903-5926.

ADDRESSES: The Department welcomes comments on this notice. Comments should be addressed to: Patricia R. Worthington, PhD, Director, Office of Health and Safety (HS-10), U.S. Department of Energy, 1000 Independence Avenue, SW., Washington, DC 20585.

SUPPLEMENTARY INFORMATION:

Purpose

The Act establishes a program to provide compensation to certain employees who develop illnesses as a result of their employment with DOE, its predecessor Agencies, certain of its contractors and subcontractors and listed beryllium vendors. Section 3621 of the Act (codified at 42 U.S.C. 7384l) defines an AWE as “an entity, other than the United States, that—(A) processed or produced, for use by the United States, material that emitted radiation and was used in the production of an atomic weapon, excluding uranium mining and milling; and (B) is designated by the Secretary of Energy as an [AWE] for the purposes of the compensation program.” Section 3621 defines an AWE facility as “a facility, owned by an [AWE], that is or was used to process or produce, for use by the United States, material that emitted radiation and was used in the production of an atomic weapon, excluding uranium mining or milling.” The Act defines a DOE facility, in pertinent part, as “any building, structure, or premise, including the grounds upon which such building, structure, or premise is located—(A) in which operations are, or have been, conducted by, or on behalf of, the Department of Energy * * *; and (B) with regard to which the Department of Energy has or had—(i) a proprietary interest; or (ii) entered into a contract with an entity to provide management and operation, management and integration, environmental remediation services, construction, or maintenance services.”

It has recently come to the attention of the Department that (1) Certain entities were previously mistakenly designated as AWEs because the designated entities were Agencies of the U.S. Government and the statutory definition of an AWE excludes the United States; (2) one listed facility has changed its name; and (3) one university was incorrectly designated as a covered facility rather than the laboratory operated by the university.

This notice formally makes the following changes to the list:

• Albany Research Center in Albany, Oregon, is no longer designated as an AWE, but will keep its designation as a DOE facility;

• General Electric in Cincinnati/Evandale, Ohio, is no longer designated as an AWE, but will keep its designation as a DOE and beryllium (Be) facility;

• Granite City Steel in Granite City, Illinois, will now be listed as General Steel Industries (also known as Granite City Steel) because the facility was named General City Steel for the majority of the covered period;

• The University of California in Berkeley, California, is no longer designated as a covered facility (AWE nor DOE). The University of California is the management and operating contractor for Lawrence Berkeley National Laboratory (LBNL) and any University of California facilities that may have been used for weapons development are now covered under the LBNL facility.

Issued in Washington, DC, on March 31, 2009.
Glenn S. Podonsky,
Chief Health, Safety and Security Officer, Office of Health, Safety and Security.

[FR Doc. E9-8105 Filed 4-8-09; 8:45 am]

BILLING CODE 6450-01-P